DEPARTMENT OF COMMERCE

National Oceanic and Atmospheric Administration

[I.D. 091505D]

New England Fishery Management Council; Public Meetings

AGENCY: National Marine Fisheries Service (NMFS), National Oceanic and Atmospheric Administration (NOAA), Commerce.

ACTION: Notice; public meetings.

SUMMARY: The New England Fishery Management Council (Council) will hold a series of ten workshops to consider actions affecting New England fisheries in the exclusive economic zone (EEZ). Specifically, the Council will be soliciting information from fisheries stakeholders on topics relating to the potential incorporation of ecosystem-based approaches in New England fishery management. Recommendations from these workshops will be brought to the full Council for formal consideration and action, if appropriate.

DATES: The workshops will be held in October and November 2005. See SUPPLEMENTARY INFORMATION for times and locations of the meetings.

ADDRESSES: Meeting address: The workshops will be held in Gouldsboro, ME; Rockland, ME; Portland, ME; Portsmouth, NH; Gloucester, MA; Boston, MA; Mystic, CT; Hyannis, MA; Fairhaven, MA and Narragansett, RI. For specific locations, see SUPPLEMENTARY INFORMATION.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The schedule for the ten workshops is as follows:

1. Sunday, October 2, 2005; Gouldsboro Fire Station, 6 Walters Road, Route 1, Gouldsboro, ME 04607; telephone: (207) 963-5589 at 1 p.m.

2. Monday, October 3, 2005; Tradewinds Motor Inn, 2 Park Drive, Rockland, ME 04841; telephone: (207) 596-6661 at 5:30 p.m.

3. Tuesday, October 4, 2005; Portland Fish Exchange, 6 Portland Fish Pier, Portland, ME 04101; telephone: (207) 773-0017 at 5:30 p.m.

4. Wednesday, October 5, 2005; Courtyard by Marriott, 1000 Market Street, Portsmouth, NH 03801; telephone: (603) 436-2121 at 5:30 p.m.

5. Wednesday, October 12, 2005; Massachusetts Division of Marine Fisheries, Annisquam River Marine Fisheries Station, 30 Emerson Avenue, Gloucester, MA 01930; telephone: (978) 282-0308 at 5:30 p.m.

6. Thursday, October 13, 2005; Seaport World Trade Center, 200 Seaport Boulevard, Boston, MA 02210; telephone: (617) 385-4212 at 5:30 p.m.

7. Tuesday, October 18, 2005: Comfort Inn, 48 Whitehall Avenue, Mystic, CT 06355; telephone: (860) 572-8531 at 5:30 p.m.

8. Tuesday, November 1, 2005: Radisson Hotel, 287 Iyannough Road, Hyannis, MA 02601; telephone: (508) 771-1700 at 5:30 p.m.

9. Wednesday, November 2, 2005: Hampton Inn, One Hampton Way, Fairhaven, MA 02719; telephone: (508) 990-8500 at 5:30 p.m.

10. Thursday, November 3, 2005: Village Inn, One Beach Street, Narragansett, RI 02882; telephone: (401) 783-6767 at 5:30 p.m.

Special Accommodations

These workshops are physically accessible to people with disabilities. Requests for sign language interpretation or other auxiliary aids should be directed to Paul J. Howard, Executive Director, at 978-465-0492, at least 5 days prior to the meeting date.

Dated: September 15, 2005.
Alan D. Risenhoover,
Acting Director, Office of Sustainable Fisheries, National Marine Fisheries Service.

[FR Doc. E5-5141 Filed 9-20-05; 8:45 am]

BILLING CODE 3510-22-S